DEPARTMENT OF HOUSING AND URBAN DEVELOPMENT

[Docket No. FR-4837-D-09]

Delegation of Authority to the Office of Policy Development and Research for Administration of HUD's Higher Education Programs

AGENCY: Office of the Secretary, HUD.

ACTION: Notice of delegation of authority.

SUMMARY: Through this notice, the Secretary of HUD delegates to the Assistant Secretary for Policy Development and Research the authority to administer HUD's higher education programs. These programs are the Community Development Work Study program, the Community Outreach Partnership Center program, the Historically Black Colleges and Universities program, the Hispanic-Serving Institutions Assisting Communities program, the Alaskan Native/Native Hawaiian Institutions Assisting Communities program, and the Tribal Colleges and Universities program.

EFFECTIVE DATE: July 9, 2003.

FOR FURTHER INFORMATION CONTACT: Christopher D. Lord, Deputy Assistant Secretary for Policy Development and Research, 451 Seventh Street, SW., Room 8108, Washington, DC 20410-6000, telephone (202) 708-3896. Persons with hearing or speech impairments may call HUD's TTY number at (202) 708-1455 or the Federal Information Relay Service's TTY number at (800) 877-8339. Other than the “800”, the telephone and TTY numbers listed are not toll-free.

Section A. Authority Delegated

The Secretary of HUD delegates to the Assistant Secretary for Policy Development and Research the authority to administer the following programs, including the authority to issue and waive regulations for these programs:

1. The Community Development Work Study program, section 107(c) of Title I of the Housing and Community Development Act of 1974 (42 U.S.C. 5307(c));

2. The Community Outreach Partnership Center program, within the Community Outreach Partnership Act of 1992 (42 U.S.C. 5307 note), and section 107 of the Housing Development Act of 1974 (42 U.S.C. 5307(b)(3));

3. The Historically Black Colleges and Universities program, under section 107(b)(3) of the Housing and Community Development Act of 1974 (42 U.S.C. 5307(b)(3));

4. The Hispanic-Serving Institutions Assisting Communities program, under the Fiscal Year (FY) 2002 HUD Appropriations Act (Public Law 107-73, 115 Stat. 651, approved November 26, 2001);

5. The Alaskan Native/Native Hawaiian Institutions Assisting Communities program, under the FY 2002 HUD Appropriations Act (Public Law 107-73, 115 Stat. 651, approved November 26, 2001);

6. The Tribal Colleges and Universities program, under the FY 2002 HUD Appropriations Act (Public Law 107-73, 115 Stat. 651, approved November 26, 2001).

Section B. Authority to Redelegate

Subject to the authority excepted in Section C, the authority granted in Section A may be further redelegated in accordance with a written redelegation of authority.

Section C. Authority Excepted

The authority granted under Section A does not include the authority to sue and be sued. The redelegation authority granted under Section B does not include the authority to issue or waive regulations.

Section D. Delegations Revoked

This delegation supersedes and revokes all prior delegations from the Secretary concerning the authority to administer the six programs listed in this delegation.

Authority: Section 7(d), Department of Housing and Urban Development Act (42 U.S.C. 3535(d)).

Dated: July 9, 2003.
Mel Martinez,
Secretary.

[FR Doc. 03-18183 Filed 7-17-03; 8:45 am]

BILLING CODE 4210-32-P